DEPARTMENT OF COMMERCE

National Oceanic and Atmospheric Administration

[RTID XA005]

North Pacific Fishery Management Council; Public Meeting

AGENCY: National Marine Fisheries Service (NMFS), National Oceanic and Atmospheric Administration (NOAA), Commerce.

ACTION: Meetings of the North Pacific Fishery Management Council and its advisory committees.

SUMMARY: The North Pacific Fishery Management Council (Council) and its advisory committees will meet January 27, 2020 to February 2, 2020.

DATES: The Council will begin its plenary session at 8 a.m. in the South Room on Wednesday, January 29 continuing through Sunday, February 2, 2020. The Council's Scientific and Statistical Committee (SSC) will begin at 8 a.m. in the East Room on Monday, January 27 and continue through Wednesday, January 29, 2020. The Council's Advisory Panel (AP) will begin at 8 a.m. in the North/West Room on Tuesday, January 28 and continue through Friday, January 31, 2020. The Ecosystem Committee will meet on Tuesday, January 28, 2020, from 8 a.m. to 5 p.m. (room TBD). The Partial Coverage Fishery Monitoring Advisory Committee will meet Tuesday, January 28, 2020, from 1 p.m. to 5 p.m. (room TBD).

ADDRESSES: The meeting will be held at the Renaissance Hotel, 515 Madison St., Seattle, WA 98104.

Council address: North Pacific Fishery Management Council, 1007 West 3rd, Suite 400; telephone: (907) 271-2809.

FOR FURTHER INFORMATION CONTACT: Diana Evans, Council staff; telephone: (907) 271-2809.

SUPPLEMENTARY INFORMATION:

Agenda

Monday, January 27, 2020 Through Sunday, February 2, 2020

Council Plenary Session: The agenda for the Council's plenary session will include the following issues. The Council may take appropriate action on any of the issues identified.

(1) Executive Director's Report

(2) NMFS Management Report

(3) NOAA General Counsel Report

(4) Alaska Fisheries Science Center Report

(5) ADF&G Report

(6) USCG Report

(7) USFWS Report

(8) Charter Halibut Annual Management Measures for Area 3A

(9) Norton Sound Red King Crab—Specifications, BSAI Crab Plan Team Report

(10) Central GOA Rockfish Reauthorization

(11) Economic Data Report regulatory changes

(12) Sculpin/Squid Product Types

(13) Partial Coverage Cost Efficiencies

(14) Standardized Bycatch Reporting Methodology in FMPs

(15) Bering Sea Fishery Ecosystem Plan Action Modules

(16) BSAI Halibut ABM

(17) Crab e-logbooks Cost Analysis

(18) Social Science Planning Team

(19) Staff Tasking

The Advisory Panel will address the same agenda issues as the Council with the exception of the B reports (issues 1-7).

The SSC's agenda will include:

(1) Sculpin/Squid Product Types

(2) Alaska Fisheries Science Center Report

(3) Norton Sound Red King Crab—Specifications, BSAI Crab Plan Team Report

(4) Bering Sea Fishery Ecosystem Plan Action Modules

(5) Social Science Planning Team

(6) Economic Data Report regulatory changes

(7) Economic SAFE report—Review

(8) Multi Regional Social Accounting Matrix tool—Review

(9) Marine Mammal Conservation Status—Annual Update

Additionally, the SSC will be holding a Research Priorities Planning Workshop at 1 p.m. on Wednesday, January 29, 2020 in the East Room. In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

The agenda for the Partial Coverage Fishery Monitoring Advisory Committee includes the opportunity to review, give staff feedback, and make recommendations to the Council on a draft workplan that establishes different elements and options for a cost efficient monitoring program that can be supported by industry fees. The agenda for the Ecosystem Committee includes fur seal updates from NOAA and St. Paul, skate nursery research update, deep sea coral research update, and FEP action module updates.

The Agenda is subject to change, and the latest version will be posted at https://meetings.npfmc.org/Meeting/Details/1243.

Public Comment

Public comment letters will be accepted and should be submitted either electronically at: https://meetings.npfmc.org/Meeting/Details/1243 or through the mail: North Pacific Fishery Management Council, 1007 West 3rd Ave., Suite 400, Anchorage, AK 99501. Deadline for comments is January 24, 2020 at 12 p.m.

Special Accommodations

These meetings are physically accessible to people with disabilities. Requests for sign language interpretation or other auxiliary aids should be directed to Shannon Gleason at (907) 271-2809 at least 7 working days prior to the meeting date.

Dated: January 3, 2020.
Tracey L. Thompson,
Acting Deputy Director, Office of Sustainable Fisheries, National Marine Fisheries Service.

[FR Doc. 2020-00099 Filed 1-7-20; 8:45 am]

BILLING CODE 3510-22-P